DEPARTMENT OF COMMERCE

National Oceanic and Atmospheric Administration

NATIONAL SCIENCE FOUNDATION

[Docket No. 0906261096-91224-02]

RIN 0648-ZC08

Comparative Analysis of Marine Ecosystem Organization; Amendment

AGENCY: National Marine Fisheries Service (NMFS), National Oceanic and Atmospheric Administration (NOAA), Commerce; National Science Foundation (NSF).

ACTION: Notice of funding availability; amended solicitation.

SUMMARY: NOAA and NSF publish this notice to amend the Federal Funding Opportunity (NOAA-NMFS-FHQ-2009-2001734) entitled “Comparative Analysis of Marine Ecosystem Organization (CAMEO)” which was originally announced in the Federal Register on July 7, 2009. This notice announces changes to the program priorities.

DATES: Full proposals must be received and validated by Grants.gov, postmarked, or provided to a delivery service on or before 11:59 p.m. ET, October 5, 2009. Please note: Validation or rejection of your application by Grants.gov may take up to 2 business days after submission. Please consider this process in developing your submission timeline. Applications received after the deadline will be rejected/returned to the sender without further consideration. Use of U.S. mail or another delivery service must be documented with a receipt. No facsimile or electronic mail applications will be accepted.

ADDRESSES: Electronic application packages are strongly encouraged and are available at: http://www.grants.gov/. If the applicant's only mode of submitting a proposal is via paper application, or if the applicant has difficulty accessing Grants.gov or downloading the required forms, they should contact: Lora Clarke, CAMEO, NOAA Fisheries, 1315 East-West Highway, Room 14505, Silver Spring, MD, 20910 or by phone at (301) 713 2239, or via internet at Lora.Clarke@noaa.gov.

FOR FURTHER INFORMATION CONTACT: Michael Ford, CAMEO Program Manager, NOAA/NMFS, (301) 713 2239, Michael.Ford@noaa.gov; Lora Clarke, Associate Program Manager, NOAA/NMFS, (301) 713 2239, Lora.Clarke@noaa.gov; Cynthia Suchman, Associate Program Director, Biological Oceanography, OCE/GEO/NSF, (703) 292 8582, csuchman@nsf.gov; David Garrison, Program Director, Biological Oceanography, OCE/GEO/NSF, (703) 292 8582, dgarriso@nsf.gov.

SUPPLEMENTARY INFORMATION: NOAA and NSF publish this notice to inform the public of an amendment to the solicitation “Comparative Analysis of Marine Ecosystem Organization (CAMEO)” announced in the Federal Register on July 7, 2009 (74 FR 32112). Due to an error, only four of the five program priorities were announced in the original solicitation. The Full Funding Opportunity is amended to read:

Program Priorities

This funding opportunity will implement CAMEO research by supporting the development of research tools and strategic approaches. The following types of proposals are encouraged:

1. Development of strategies and methodologies for comparative analyses that can be applied consistently across spatial and temporal scales and ecosystems, and that facilitate the design of decision support tools for marine populations, ecosystems and habitats.

2. Development of models that address key scientific questions by comparing ecosystems and ecosystem processes. Models that are geographically and temporally portable, and that incorporate assessment of modeling skill, are particularly encouraged.

3. Retrospective studies that analyze, re-analyze or synthesize existing information (historic, time-series, ongoing program, etc.) using a comparative approach.

4. Studies that integrate the human dimension within ecosystem dynamics. The CAMEO program seeks to promote interdisciplinary research using comparative approaches to link marine ecosystem research with the social and behavioral sciences in new and vital ways.

5. Empirical or retrospective projects that evaluate and compare the effectiveness and design of Marine Protected Areas or other spatially-explicit management strategies.

All information and requirements published in the Federal Register on July 7, 2009 apply to applications submitted pursuant to this notice. Under this amended solicitation, NOAA and NSF allow for modifications to applications already received under the initial announcement. Any proposal that has been submitted to the initial solicitation prior to September 15, 2009 may be resubmitted to reflect this change in program priorities. Applicants may revise proposals to address this change; however, any revisions to such proposals must be submitted by the original deadline.

The following sections of that Federal Funding Opportunity have been amended to reflect the changes announced in this notice: “Program Priorities”.

Electronic Access

The full text of the full funding opportunity announcement for this program can be accessed via the Grants.gov web site at http://www.grants.gov. The announcement will also be available by contacting the program officials identified under FOR FURTHER INFORMATION CONTACT. Applicants must comply with all requirements contained in the full funding opportunity announcement.

Statutory Authority

Authority for CAMEO is provided by the following: 33 U.S.C. 1442 for the National Marine Fisheries Service and 42 U.S.C. 1861 75 for the National Science Foundation.

CFDA: 11.472, Unallied Science Program

Limitation of Liability

In no event will NOAA, the Department of Commerce or the National Science Foundation be responsible for proposal preparation costs if these programs fail to receive funding or are cancelled because of other agency priorities. Publication of this announcement does not oblige NOAA or NSF to award any specific project or to obligate any available funds.

National Environmental Policy Act (NEPA)

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in the drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of February 11, 2008 (73 FR 7696), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: September 9, 2009.
Steven A. Murawski,
NOAA Fisheries, Chief Scientific Advisor, Director of Scientific Programs.

Dated: September 8, 2009.
Phillip R. Taylor,
Section Head, Ocean Section, Division of Ocean Sciences, National Science Foundation.

[FR Doc. E9-22177 Filed 9-14-09; 8:45 am]

BILLING CODE 3510-22-S